DEPARTMENT OF JUSTICE

Notice of Lodging of Proposed Consent Decree Under the Comprehensive Environmental Response, Compensation, and Liability Act

On January 28, 2015, the Department of Justice lodged a proposed Consent Decree with the United States District Court for the Western District of Wisconsin in the lawsuit entitled United States v. Soo Line Railroad Company and Wisconsin Central, Ltd., Civil Action No. 15-59.

This action involves recovery of costs associated with the release and threatened release of hazardous substances from facilities at and near the Ashland/Northern States Power Lakefront Superfund Site in northwestern Wisconsin (hereinafter the “Site”), pursuant to the Comprehensive Environmental Response, Compensation, and Liability Act, 42 U.S.C. 9601 et seq. (“CERCLA”). The Site consists of land in Ashland, Wisconsin and lakebed sediments along the shore of Lake Superior's Chequamegon Bay. The United States has filed a complaint seeking response costs from Defendants Soo Line Railroad Company and Wisconsin Central, Ltd. (“Defendants”). The proposed Consent Decree requires Defendants to pay a total of $10.5 million to the United States and Northern States Power-Wisconsin (“NSPW”). Under an earlier consent decree, NSPW has agreed to perform the on-land remedy at the Site under the direction of the United States EPA.

The publication of this notice opens a period for public comment on the proposed Consent Decree. Comments should be addressed to the Assistant Attorney General, Environment and Natural Resources Division, and should refer to United States v. Soo Line Railroad Company and Wisconsin Central, Ltd., D.J. Ref. No. 90-11-2-08879/2. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area by email or mail to the addresses above by no later than 30 days after the publication of this notice.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $9.00 (25 cents per page reproduction cost) payable to the United States Treasury.

Randall M. Stone,
Acting Assistant Section Chief, Environmental Enforcement Section, Environment and Natural Resources Division.

[FR Doc. 2015-01919 Filed 1-30-15; 8:45 am]

BILLING CODE 4410-15-P